DEPARTMENT OF ENERGY

Federal Energy Regulatory Commission

[Project No. 14997-000]

New England Hydropower Company, LLC; Notice of Preliminary Permit Application Accepted for Filing and Soliciting Comments, Motions To Intervene, and Competing Applications

On May 23, 2019, New England Hydropower Company, LLC, filed an application for a preliminary permit, pursuant to section 4(f) of the Federal Power Act (FPA), proposing to study the feasibility of hydropower on the Lehigh Canal in Lehigh County, Pennsylvania. The sole purpose of a preliminary permit, if issued, is to grant the permit holder priority to file a license application during the permit term. A preliminary permit does not authorize the permit holder to perform any land-disturbing activities or otherwise enter upon lands or waters owned by others without the owners' express permission.

The proposed Lehigh Canal Allentown Hydroelectric Project would consist of the following: (1) An existing 11-foot-high, 480-foot-long concrete gravity dam (i.e., the Hamilton Street Dam); (2) an existing impoundment with an approximate surface area of 50 acres and a storage capacity of 371 acre-feet at a normal surface elevation of 240 feet mean sea level; (3) an existing canal approximately 0.58 mile long; (4) an existing 20-foot-wide gate structure on the canal with a spillway; (5) a new 14-foot-wide, 20-foot-long intake channel; (6) a new 16-foot by 20-foot powerhouse containing one Archimedes Screw turbine-generator unit with a total capacity of 485 kilowatts; (7) a new 480-volt, 350-foot-long transmission line connecting the powerhouse to a nearby grid interconnection point; and (8) appurtenant facilities. The proposed project would have an average annual generation of 3,560 megawatt-hours.

Applicant Contact: Michael C. Kerr, New England Hydropower Company, LLC, 100 Cummings Center, Suite 451C, Beverly, MA 01915; phone: (978) 360-2547.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14997-000.

More information about this project, including a copy of the application, can be viewed or printed on the eLibrary link of the Commission's website at http://www.ferc.gov/docs-filing/elibrary.asp. Enter the docket number (P-14997) in the docket number field to access the document. For assistance, contact FERC Online Support.

Dated: July 22, 2019.
Nathaniel J. Davis, Sr.,
Deputy Secretary.

[FR Doc. 2019-16115 Filed 7-29-19; 8:45 am]

BILLING CODE 6717-01-P